DEPARTMENT OF JUSTICE

Notice of Lodging of Consent Decree Pursuant to the Comprehensive Environmental Response Compensation and Liability Act

Notice is hereby given that a proposed consent decree in United States v. Alder-Gold Copper Company, Civil Action No. 2:07-CV-00255-EFS, was lodged on August 3, 2007 with the United States District Court for the Eastern District of Washington. The United States filed this action pursuant to the Comprehensive Environmental Response, Compensation and Liability Act seeking clean up of groundwater contamination and recovery of costs incurred at the Alder Mill Site in Okanogan County, Washington.

The Consent Decree resolves the United States' claims by requiring the defendant Alder-Gold Copper Company to sell three parcels of land and pay a portion of the proceeds of the sale to the United States to reimburse the United States for its costs in cleaning up the Site. The United States estimates that the Consent Decree will result in the payment of between $200,000 and $300,000 to the Superfund.

The Department of Justice will receive, for a period of thirty (30) days from the date of this publication, comments relating to the proposed consent decree. Comments should be addressed to the Assistant Attorney General, Environment and Natural Resources Division, and either e-mailed to pubcomment-ess.enrd@usdoj.gov or mailed to P.O. Box 7611, U.S. Department of Justice, Washington, DC 20044-7611, and should refer to United States v. Alder-Gold Copper Company, DOJ Ref #90-11-3-08880.

The proposed consent decree may be examined at the office of the United States Attorney, 920 W. Riverside Ave, Suite 340, Spokane, Washington 99201, and at the Region X Office of the Environmental Protection Agency, 1200 Sixth Avenue, Seattle, Washington 98101. During the public comment period, the proposed consent decree may also be examined on the Department of Justice Web site, at http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $20.25 (or $4.75, for a copy that omits the exhibits and signature pages) (25 cents per page reproduction cost) payable to the U.S. Treasury or, if by e-mail or fax, forward a check in that amount to the Consent Decree Library at the stated address.

W. Benjamin Fisherow,
Deputy Section Chief, Environmental Enforcement Section, Environment and Natural Resources Division.

[FR Doc. 07-3998 Filed 8-14-07; 8:45 am]

BILLING CODE 4410-15-M